DEPARTMENT OF COMMERCE

Census Bureau

Census Scientific Advisory Committee

AGENCY: Census Bureau, Department of Commerce.

ACTION: Renewal of the Census Scientific Advisory Committee charter.

SUMMARY: The Census Bureau is publishing this notice to announce the renewal of the Census Scientific Advisory Committee (Committee or CSAC). The purpose of the Committee is to provide advice to the Director of the Census Bureau on the full range of Census Bureau programs and activities including communications; decennial, demographic, and economic statistics; field operations; geography; and information technology. Additional information concerning the Committee can be found by visiting the Committee's website at: https://www.census.gov/about/cac/sac.html.

FOR FURTHER INFORMATION CONTACT: Shana J. Banks, Advisory Committee Branch Chief, Office of Program, Performance and Stakeholder Integration (PPSI), shana.j.banks@census.gov, Department of Commerce, Census Bureau, telephone 301-763-3815. For TTY callers, please use the Federal Relay Service at 1-800-877-8339.

SUPPLEMENTARY INFORMATION:

Background

In accordance with the Federal Advisory Committee Act (FACA), the Secretary of the Department of Commerce (Secretary) intends to renew the CSAC. The Secretary has determined that the work of the Committee is in the public interest and relevant to the duties of the Census Bureau. The CSAC will operate under the provisions of FACA and will report to the Secretary through the Director of the Census Bureau. The CSAC will advise the Director of the Census Bureau on the full range of Census Bureau programs and activities.

Objectives and Duties

1. The Committee will address census policies, research and methodology, tests, operations, communications/messaging, and other activities to ascertain needs and best practices to improve censuses, surveys, operations, and programs.

2. The Committee will provide formal review and feedback on internal and external working papers, reports, and other documents related to the design and implementation of census programs and surveys.

3. The Committee will provide scientific and technical expertise from the following disciplines: Demographics, economics, geography, psychology, statistics, survey methodology, social and behavorial sciences, information technology and computing, marketing and other fields of expertise, as appropriate, to address Census Bureau program needs and objectives.

4. The Committee functions solely as an advisory body under the FACA. The function of this Committee will be a “Scientific Technical Program Advisory Board.”

Membership

1. The Committee consists of up to 21 members who serve at the discretion of the Director of the Census Bureau.

2. The Committee aims to have a balanced representation among its members, considering such factors as geography, scientific expertise, community involvement, and knowledge of census programs and/or activities, and, where possible, the Census Bureau will also consider the ethnic, racial, and gender diversity and various abilities of the United States population.

3. The Committee aims to include members from diverse backgrounds, including state, local and tribal governments; academia; research, national and community-based organizations; and, the private sector.

4. Members will serve as Special Government Employees (SGEs). SGEs will be subject to the ethics rules applicable to SGEs. Members will be individually advised of the capacity in which they will serve through their appointment letters.

5. SGEs will be selected from academia, public and private enterprise, and nonprofit organizations, which are further diversified by business type or industry, geography, and other factors.

6. Membership is open to persons who are not seated on other Census Bureau stakeholder entities (i.e., State Data Centers, Census Information Centers, Federal State Cooperative on Populations Estimates Program, other Census Advisory Committees, etc.). Members who have served on another Census Bureau advisory committee may not be reappointed or serve on the CSAC until at least three years have passed from the termination of previous service. No employee of the federal government can serve as a member of the Committee.

7. Members will serve for a three-year term. All members will be evaluated at the conclusion of their first term with the prospect of renewal, pending Committee needs. Active attendance and participation in meetings and activities (e.g., conference calls and assignments) will be factors considered when determining term renewal or membership continuance. Members may be appointed for an additional three-year term at the discretion of the Director.

8. Members will be selected on a standardized basis, in accordance with applicable Department of Commerce guidance.

Miscellaneous

1. Members of the Committee serve without compensation, but receive reimbursement for Committee-related travel and lodging expenses.

2. The Census Bureau will convene two CSAC meetings per year, budget and environmental conditions permitting, but additional meetings may be held as deemed necessary by the Census Bureau Director or Designated Federal Officer. Committee meetings are open to the public in accordance with FACA.

3. Members must be able to actively participate in the tasks of the Committee, including, but not limited to, regular meeting attendance, Committee meeting discussant responsibilities, review of materials, as well as participation in conference calls, webinars, working groups, and/or special committee activities.

4. The Department of Commerce is committed to equal opportunity in the workplace and seeks diverse Committee membership.

Robert L. Santos, Director, Census Bureau, approved the publication of this Notice in the Federal Register.

Dated: March 25, 2022.
Sheleen Dumas,
Department PRA Clearance Officer, Office of the Chief Information Officer, Commerce Department.

[FR Doc. 2022-06690 Filed 3-29-22; 8:45 am]

BILLING CODE 3510-07-P